DEPARTMENT OF COMMERCE

National Oceanic and Atmospheric Administration

RIN 0648-XA583

Endangered Species; File No. 16146

AGENCY: Commerce, National Oceanic and Atmospheric Administration (NOAA), National Marine Fisheries Service (NMFS).

ACTION: Notice; receipt of application.

SUMMARY: Notice is hereby given that Kristen Hart, U.S. Geological Survey, Southeast Ecological Science Center, Davie Field Office, Davie, FL, has applied in due form for a permit to take loggerhead (Caretta caretta), green (Chelonia mydas), and hawksbill (Eretmochelys imbricata) sea turtles for scientific research.

DATES: Written, telefaxed, or e-mail comments must be received on or before August 24, 2011.

ADDRESSES: The application and related documents are available for review by selecting “Records Open for Public Comment” from the Features box on the Applications and Permits for Protected Species (APPS) home page, https://apps.nmfs.noaa.gov, and then selecting File No. 16146 from the list of available applications.

These documents are also available upon written request or by appointment in the following offices:

Permits, Conservation and Education Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits, Conservation and Education Division

• By e-mail to NMFS.Pr1Comments@noaa.gov (include the File No. in the subject line of the e-mail),

• By facsimile to (301) 713-0376, or

• At the address listed above.

Those individuals requesting a public hearing should submit a written request to the Chief, Permits, Conservation and Education Division at the address listed above. The request should set forth the specific reasons why a hearing on this application would be appropriate.

FOR FURTHER INFORMATION CONTACT: Kristy Beard or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The applicant requests a five-year permit to study green, hawksbill, and loggerhead sea turtles at Buck Island Reef National Monument, U.S. Virgin Islands. The purposes of the research are to determine species-specific habitat-use patterns over time, increase understanding of genetic stock structure, and estimate vital rates and local population abundance. The applicant would capture 160 green turtles each year. All would be subject to counts, epibiota removal, lavage, temporary carapace marking, flipper and passive integrated transponder tagging, measure, photograph, (potential) recapture, blood sampling, fecal sampling, tissue biopsy, and weighing. Of the 160, 20 also would be tagged with satellite tags and data loggers (epoxy attachments) and acoustic transmitters (epoxy or drill carapace and attach with wire). All 20 would not necessarily be subject to all three tag types, but no more than 20 would have any type of tag attached. Hawksbill takes would be for the same activities, but a total of 180 would be captured annually, with 30 of those subject to a combination of tags. Fifteen loggerheads would be captured per year, and all would be subject to all of the activities.

Dated: July 19, 2011.
P. Michael Payne,
Chief, Permits, Conservation and Education Division, Office of Protected Resources, National Marine Fisheries Service.

[FR Doc. 2011-18727 Filed 7-22-11; 8:45 am]

BILLING CODE 3510-22-P